DEPARTMENT OF COMMERCE

Foreign-Trade Zones Board

[B-39-2017]

Foreign-Trade Zone (FTZ) 214—Lenoir County, North Carolina, Notification of Proposed Production Activity; Nutkao USA, Inc., (Hazelnut Cocoa Spread), Battleboro, North Carolina

Nutkao USA, Inc. (Nutkao) submitted a notification of proposed production activity to the FTZ Board for its facility in Battleboro, North Carolina within FTZ 214. The notification conforming to the requirements of the regulations of the FTZ Board (15 CFR 400.22) was received on May 24, 2017.

The company has indicated that a separate application for FTZ designation at the Nutkao facility will be submitted for processing under Section 400.38 of the Board's regulations. Nutkao is requesting export-only FTZ authority to produce hazelnut cocoa spread using foreign-status refined cane sugar. Pursuant to 15 CFR 400.14(b), FTZ activity would be limited to the specific foreign-status materials and components and specific finished products described in the submitted notification (as described below) and subsequently authorized by the FTZ Board.

Production under FTZ procedures could exempt Nutkao from customs duty payments on the refined cane sugar (duty rate—$0.036606/kg) used in the company's export production of hazelnut cocoa spread. Customs duties also could possibly be deferred or reduced on foreign-status production equipment. If the proposal were approved, the foreign-status sugar used in the FTZ operation would not be subject to quota(s).

Public comment is invited from interested parties. Submissions shall be addressed to the Board's Executive Secretary at the address below. The closing period for their receipt is July 18, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: June 2, 2017.
Andrew McGilvray,
Executive Secretary.

[FR Doc. 2017-11838 Filed 6-7-17; 8:45 am]

BILLING CODE 3510-DS-P